SECURITIES AND EXCHANGE COMMISSION

Sunshine Act; Meeting

Notice is hereby given, pursuant to the provisions of the Government in the Sunshine Act, Pub. L. 94-409, that the Securities and Exchange Commission will hold the following meeting during the week of May 31, 2004:

An Open Meeting will be held on Wednesday, June 2, 2004 at 10 a.m. in Room 1C30, the William O. Douglas Room.

The subject matter of the Open Meeting scheduled for Wednesday, June 2, 2004 will be:

1. The Commission will consider whether to propose new Regulation B, which, among other things, would redesignate and amend definitions and exemptions relating to the exceptions for banks from the definition of “broker” in the Securities Exchange Act of 1934 adopted by the Commission on an interim final basis in 2001 and provide additional exemptions for banks from this definition.

For further information, please contact Joseph Corcoran (202) 942-0756 or Brice Prince at (202) 942-0759.

At times, changes in Commission priorities require alterations in the scheduling of meeting items. For further information and to ascertain what, if any, matters have been added, deleted or postponed, please contact:

The Office of the Secretary at (202) 942-7070.

Dated: May 25, 2004.
Jill M. Peterson,
Assistant Secretary.

[FR Doc. 04-12191 Filed 5-25-04; 3:41 pm]

BILLING CODE 8010-01-P